INTERNATIONAL TRADE COMMISSION

[Investigation No. 731-TA-745 (Review)]

Steel Concrete Reinforcing Bar From Turkey

Determination

On the basis of the record ¹ developed in the subject five-year review, the United States International Trade Commission (Commission) determines, pursuant to § 751(c) of the Tariff Act of 1930 (19 U.S.C. 1675(c)) (the Act), that revocation of the antidumping duty order on steel concrete reinforcing bar from Turkey would be likely to lead to continuation or recurrence of material injury to an industry in the United States within a reasonably foreseeable time.²

¹ The record is defined in sec. 207.2(f) of the Commission's Rules of Practice and Procedure (19 CFR 207.2(f)).

² Chairman Deanna Tanner Okun and Commissioner Lynn M. Bragg dissenting.

Background

The Commission instituted this review on March 1, 2002 (67 FR 9465) and determined on June 4, 2002, that it would conduct a full review (67 FR 40965, June 14, 2002). Notice of the scheduling of the Commission's review and of a public hearing to be held in connection therewith was given by posting copies of the notice in the Office of the Secretary, U.S. International Trade Commission, Washington, DC, and by publishing the notice in the Federal Register on September 11, 2002 (67 FR 57628). The hearing was held in Washington, DC, on December 12, 2002, and all persons who requested the opportunity were permitted to appear in person or by counsel.

The Commission transmitted its determination in this review to the Secretary of Commerce on February 24, 2003. The views of the Commission are contained in USITC Publication 3577 (February 2003), entitled Steel Concrete Reinforcing Bar from Turkey: Investigation No. 731-TA-745 (Review).

By order of the Commission.
Issued: February 25, 2003.
Marilyn R. Abbott,
Secretary to the Commission.

[FR Doc. 03-4825 Filed 2-28-03; 8:45 am]

BILLING CODE 7020-02-P